DEPARTMENT OF ENERGY

Federal Energy Regulatory Commission

[Docket No. RP00-440-000]

Dominion Transmission, Inc.; Notice of Proposed Changes in FERC Gas Tariff

August 11, 2000.

Take notice that on August 7, 2000, Dominion Transmission, Inc. (Dominion), filed as part of its FERC Gas Tariff, Second Revised Volume No. 1, the following tariff sheets with a proposed effective date of September 1, 2000:

Third Revised Sheet No. 367

Third Revised Sheet No. 369

Second Revised Sheet No. 370

Second Revised Sheet No. 371

Fourth Revised Sheet No. 373

Fourth Revised Sheet No. 374

Second Revised Sheet No. 375

Dominion states that the purpose of this filing is to comply with the Commission's Order Nos. 637 and 637-A at Docket Nos. RM 98-10 and 98-12, which requires pipelines to remove the maximum ceiling rate for short-term capacity release transactions. Specifically, Dominion has filed to remove the maximum rate ceiling for capacity release transactions of less than one year until September 30, 2002. Further, Dominion, as required by Order No. 637-A, has filed to make all short-term capacity release transactions of more than 31 days, including transactions at or above maximum rates, subject to the posting and bidding requirements.

Dominion states that copies of its filing have been served upon Dominion's customers and interested state commissions. Dominion also states that copies of this filing are available for public inspection during regular business hours, at Dominion's principal offices in Clarksburg, West Virginia.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20901 Filed 8-16-00; 8:45 am]

BILLING CODE 6717-01-M